SMALL BUSINESS ADMINISTRATION

[Declaration of Disaster #3531]

State of Texas

As a result of the President's major disaster declaration on July 17, 2003, I find that Calhoun, Jackson, Matagorda, Refugio, and Victoria Counties in the State of Texas constitute a disaster area due to damages caused by Hurricane Claudette occurring on July 15, 2003 and continuing. Applications for loans for physical damage as a result of this disaster may be filed until the close of business on September 16, 2003 and for economic injury until the close of business on April 19, 2004 at the address listed below or other locally announced locations: U.S. Small Business Administration, Disaster Area 3 Office, 4400 Amon Carter Blvd., Ste., 102, Fort Worth, TX 76155.

In addition, applications for economic injury loans from small businesses located in the following contiguous counties may be filed until the specified date at the above location: Aransas, Bee, Brazoria, De Witt, Goliad, Lavaca, San Patricio, and Wharton in the State of Texas.

The interest rates are:

| Percent
For Physical Damage:
Homeowners With Credit Available Elsewhere | 5.625
Homeowners Without Credit Available Elsewhere | 2.812
Businesses With Credit Available Elsewhere | 5.906
Businesses And Non-Profit Organizations Without Credit Available Elsewhere | 2.953
Others (Including Non-Profit Organizations) With Credit Available Elsewhere | 5.500
For Economic Injury:
Businesses And Small Agricultural Cooperatives Without Credit Available Elsewhere | 2.953

The number assigned to this disaster for physical damage is 353108. For economic injury, the number is 9W5200.

(Catalog of Federal Domestic Assistance Program Nos. 59002 and 59008)

Dated: July 21, 2003.
Herbert L. Mitchell,
Associate Administrator for Disaster Assistance.

[FR Doc. 03-18988 Filed 7-24-03; 8:45 am]

BILLING CODE 8025-01-P